DEPARTMENT OF JUSTICE

Antitrust Division

Notice Pursuant to the National Cooperative Research and Production Act of 1993—Digital Manufacturing Design Innovation Institute

Notice is hereby given that, on January 31, 2017, pursuant to Section 6(a) of the National Cooperative Research and Production Act of 1993, 15 U.S.C. 4301 et seq. (“the Act”), Digital Manufacturing Design Innovation Institute (“DMDII”) has filed written notifications simultaneously with the Attorney General and the Federal Trade Commission disclosing changes in its membership. The notifications were filed for the purpose of extending the Act's provisions limiting the recovery of antitrust plaintiffs to actual damages under specified circumstances. Specifically, the following parties have been added as members to this venture: University of Texas, Austin, TX; Dow Chemical Company, Midland, MI; McKinsey & Company, New York, NY; Auburn University, Auburn, AL; Case Western Reserve University, Cleveland, OH; Wayne State University, Detroit, MI; Faurecia, Auburn Hills, MI; Johnson & Johnson, New Brunswick, NJ; Northrop Grumman Corporation, West Falls Church, VA; Stanley Black & Decker, Inc., New Britain, CT; American Society of Mechanical Engineers (ASME), New York, NY; Calspan-University at Buffalo Research Center (CUBRC), Buffalo, NY; North Carolina State University, Raleigh, NC; Northeastern University, Boston, MA; Texas State University, San Marcos, TX; University of Washington, Seattle, WA; 89Robotics, LLC, Chicago, IL; ABB Group, Cary, NC, Zurich, SWITZERLAND; Accu Solve Group, Getzville, NY; ACE Clearwater Enterprises, Torrance, CA; Action Engineering, Inc., Lilburn, GA; Actvcontent, Sunnyvale, CA; Advanced Engineering Solutions USA, Castle Rock, CO; Affinegy, Inc., Austin, TX; Agility Network Services, Chicago, IL; Allied Plastics, Twin Lakes, WI; Applied Optimization, Inc., Dayton, OH; Upskill (Formerly APX Labs), Herndon, VA; ARC Advisory Group, Dedham, MA; ARIS Technology, Batavia, IL; Arthur D. Little, Boston, MA; Arysen, Inc., Cleveland, OH; Belden Tools, Inc., Broadview, IL; Bluvision, Fort Lauderdale, FL; Bosch, Broadview, IL; Building Blocks Inc., Chicago, IL; Capgemini, New York, NY; ChromoLogic, Monrovia, CA; CIMdata, Inc., Ann Arbor, MI; C-Labs Corporation, Bellevue, WA; Composite Solutions and Digital Manufacturing LLC, Chandler, AZ; Computer Aided Technology (CATI), Buffalo Grove, IL; Crafts Technology, Elk Grove Village, IL; CreateASoft, Inc., Naperville, IL; Deloitte, New York, NY; Devbridge Group, Chicago, IL; Dimensional Control Systems, Troy, MI; Factory Right, LLC, Atlanta, GA; Festo Automation Group, Hauppague, NY; FLEXLAB, Berkeley, CA; FlexLink Systems, Inc., Allentown, PA; FORCAM Inc., Cincinnati, OH; Ford Motor Company, Dearborn, MI; Future Way Designs, Hamilton, OH; Genesis Systems Group LLC, Davenport, IA; Gill Industries, Grand Rapids, MI; Global Data Sciences Inc., Aurora, IL; Halock Security Labs, Schaumburg, IL; Hapco, Hanover, MA; HL Precision Manufacturing, Champaign, IL; Howmet Corporation, Whitehall, MI; Huntington Ingalls Industries, Newport News, VA; Identify 3D, San Francisco, CA; Industrial Measurement Systems, Aurora, IL; Integrity Technology Solutions, Bloomington, IL; Isomorph Development, Inc., Cleveland, OH; iSynergy, Inc., Wood Dale, IL; Kent Displays, Inc., Kent, OH; Knoldus, Palatine, IL, New Delhi, INDIA; Koneksys LLC, Atlanta, GA; L & J Omnico AGV, Clinton Township, MI; LMI, Tysons, VA; Lonsberry Engineering, Cleveland, OH; MachiningCloud, Inc., Camarillo, CA; MAL USA INC., Ferndale, WA; ManpowerGroup Public Sector, Falls Church, VA; Mantel Technologies, Fort Collins, CO; Manufacturing Laboratories, Inc., Las Vegas, NV; Mastercam, Tolland, CT; Materials Data Management Inc., Indianapolis, IN; Mazak Corporation, Florence, KY; McMaster-Carr, Elmhurst, IL; Mechdyne Corporation, Marshalltown, IA; Mercury Marine, Fond du Lac, WI; MetroSage LLC, Volcano, CA; Microlution, Chicago, IL; Moog, East Aurora, NY; Neal Analytics, Seattle, WA; Northwest Analytics, Portland, OR; Orion Quality Software, Cincinnati, OH; Panduit Corporation, Tinley Park, IL; Parallel Works, Inc., Chicago, IL; Pella Corporation, Pella, IA; Prairiefire Consulting, Inc., Champaign, IL; Predictronics, Cincinnati, OH; RAF Automation, Cleveland, OH; RECON Services, Houston, TX; Rescale, Inc., San Francisco, CA; Sandalwood Engineering and Ergonomics, Livonia, MI; Sandvik Coromant, New York, NY; Santos Human, Inc., Iowa City, IA; SBP Consulting, Inc., Moline, IL; Scientific Forming Technologies Corporation, Columbus, OH; Scope Technologies, Inc., Denver, CO; Scytec, Greenwood Village, CO; SearchLite, Ann Arbor, MI; SensorHound, West Lafayette, IN; SensrTrx, St. Louis, MO; Sentient Science, Buffalo, NY; Serra Laser Precision, Libertyville, IL; Sibley Machine & Foundry Corporation, South Bend, IN; Siewert Solutions, Wylie, TX; Sigmetrix, McKinney, TX; Siminsights, Irvine, CA; Source3, New York, NY; Spirit Aerosystems, Wichita, KS; StarLab Corporation, Chicago, IL; Steelcase Inc., Chicago, IL; Teradyne, North Reading, MA; Tesla Motors, Palo Alto, CA; ThingWeaver Solutions, Fairview, TX; Third Wave Systems, Eden Prairie, MN; Tru-Fab Technology, Willoughby, OH; Tyges International, Williamsburg, VA; Visible Assets, Inc., Stratham, NH; Weasler Engineering, West Bend, WI; Wes-Tech Automation Solutions, Buffalo Grove, IL; Westinghouse Electric Company, Cranberry Township, PA; Wipro Technologies, Redmond, WA; Zuken USA, Westford, MA; 3D PDF Consortium, Portland, OR; Alliance for Industry and Manufacturing, Chicago, IL; Augmented Reality for Enterprise Alliance (AREA), Wakefield, MA; Chicago Cook Workforce Partnership, Chicago, IL; Gateway Technical College, Elkhorn, WI; George E. Brown United States-Mexico Foundation for Science, Washington, DC; Illinois Manufacturing Excellence Center, Chicago, IL; Lawrence Technological University, Southfield Michigan; Quad Cities Chamber of Commerce, Davenport, IA; and Clemson University, Clemson, SC.

The following members have withdrawn as parties to this venture: Vizrt, Inc., New York, NY; Matrix 4, Inc., Woodstock, IL; Rockford Area Economic Development Council (RAEDC), Rockford, IL; MSSRC, Hanover Park, IL; Xebax Michigan Network, Detroit, MI; and Aeroeda, Jacksonville, FL.

No other changes have been made in either the membership or planned activity of the group research project. Membership in this group research project remains open, and DMDII intends to file additional written notifications disclosing all changes in membership.

On January 5, 2016, DMDII filed its original notification pursuant to Section 6(a) of the Act. The Department of Justice published a notice in the Federal Register pursuant to Section 6(b) of the Act on March 9, 2016 (81 FR 12525).

Patricia A. Brink,
Director of Civil Enforcement, Antitrust Division.

[FR Doc. 2017-05250 Filed 3-15-17; 8:45 am]

BILLING CODE P